DEPARTMENT OF HEALTH AND HUMAN SERVICES

Health Resources and Services Administration

Agency Information Collection Activities: Proposed Collection: Public Comment Request; Information Collection Request Title: Rural Communities Opioid Response Program Performance Measures, OMB No. 0906-xxxx, New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 11, 2019.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Rural Communities Opioid Response Program Performance Measures, OMB No. 0906-xxxx, New.

Abstract: The Rural Communities Opioid Response Program (RCORP) is a multi-initiative program that aims to: (1) Support treatment for and prevention of substance use disorder (SUD), including opioid use disorder (OUD); and (2) reduce morbidity and mortality associated with SUD, to include OUD, by improving access to and delivering prevention, treatment, and recovery support services to high-risk rural communities. To support this purpose, RCORP grant initiatives include:

• RCORP-Planning grants to strengthen the capacity of multi-sector consortia to collaborate and develop plans to deliver SUD/OUD prevention, treatment, and recovery services in high-risk rural communities;

• RCORP-Implementation grants to fund established networks and consortia to deliver SUD/OUD prevention, treatment, and recovery activities in high-risk rural communities; and

• RCORP-Medication Assisted Treatment Expansion grants to enhance access to medication-assisted treatment within eligible hospitals, health clinics, or tribal organizations in high-risk rural communities.

Additionally, all RCORP grant award recipients will be supported by five cooperative agreements: RCORP-Technical Assistance, which provides extensive technical assistance to award recipients; RCORP-Evaluation, which will evaluate the impact of the RCORP initiative on rural communities; and three RCORP-Centers of Excellence, which will disseminate best practices related to the treatment for and prevention of substance use disorders within rural communities.

Need and Proposed Use of the Information: For this program, performance measures were developed to provide data on each RCORP initiative and to enable HRSA to provide aggregate program data required by Congress under the Government Performance and Results Act of 1993. These measures cover the principal topic areas of interest to the Federal Office of Rural Health Policy (FORHP), including: (a) Provision of, and referral to, substance use disorder treatment and support services; (b) substance use disorder prevention, treatment, and recovery process and outcomes; (c) education of health care providers and community members; (d) number of fatal and non-fatal opioid-related overdoses; and (e) consortium strength and sustainability. All measures will speak to FORHP's progress toward meeting the goals set.

Likely Respondents: The respondents will be the grant award recipients of the Rural Communities Opioid Response Program initiatives.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent (annually) | Total responses | Average burden per response (in hours) | Total burden hours
Rural Communities Opioid Response Program Performance Measures | 243 | 2 | 486 | 5.66 | 2,750
Total | 243 |  | 486 |  | 2,750

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2019-07221 Filed 4-11-19; 8:45 am]

BILLING CODE 4165-15-P